DEPARTMENT OF VETERANS AFFAIRS

[OMB Control No. 2900—NEW]

Agency Information Collection—The Department of Veterans Affairs (VA) Office of Small and Disadvantaged Business Utilization (OSDBU) Under OMB Review

AGENCY: Office of Small and Disadvantaged Business Utilization (OSDBU), the Department of Veterans Affairs (VA).

ACTION: Notice.

SUMMARY: In compliance with the Paperwork Reduction Act (PRA) of 1995 (44 U.S.C. 3501-3521), this notice announces that OSDBU, Department of Veterans Affairs, has submitted the collection of information abstracted below to the Office of Management and Budget (OMB) for review and comment. The PRA submission describes the nature of the information collection and its expected cost and burden; it includes the actual data collection instrument.

DATES: Comments must be submitted on or before September 14, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900—NEW (Awards & ROI)” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900—NEW (Awards & ROI).”

SUPPLEMENTARY INFORMATION:

Title: Awards & ROI.

OMB Control Number: 2900—NEW.

Type of Review: New collection.

Abstract: The OSDBU needs to measure the return on investment received by attendees of the 2014 National Veteran Small Business Engagement (NVSBE). This will be determined by the incidence of federal and commercial contracts and subcontracts received by large and small business as result of their participation at this event, and the benefits received by connecting with decision makers during the engagement.

An agency may not conduct or sponsor, and a person is not required to respond to a collection of information unless it displays a currently valid OMB control number. The Federal Register Notice with a 60-day comment period soliciting comments on this collection of information was published at 80 FR 29159 on May 20, 2015.

Small Business Awards & Return on Investment

Affected Public: Small business representatives that attended the NVSBE.

Estimated Annual Burden: 30 hours.

Estimated Average Burden per Respondent: 3 minutes.

Frequency of Response: Once a year, 6 months after the NVSBE.

Estimated Number of Respondents: 600 per year.

Large Business—Awards and Return on Investment

Affected Public: Large business representatives that attended the NVSBE.

Estimated Annual Burden: 10 hours.

Estimated Average Burden per Respondent: 3 minutes.

Frequency of Response: Once a year, 6 months after the NVSBE.

Estimated Number of Respondents: 200 per year.

By direction of the Secretary.
Kathleen M. Manwell,
Program Analyst, VA Privacy Service, Office of Privacy and Records Management, Department of Veterans Affairs.

[FR Doc. 2015-19964 Filed 8-13-15; 8:45 am]

BILLING CODE 8320-01-P